DEPARTMENT OF COMMERCE

International Trade Administration

[A-201-817]

Oil Country Tubular Goods From Mexico: Final Results of Antidumping Duty Administrative Review and Determination Not To Revoke in Part

AGENCY: Import Administration, International Trade Administration, Department of Commerce.

ACTION: Notice of final results of antidumping duty administrative review and determination not to revoke in part.

SUMMARY: On September 12, 1999, the Department of Commerce (the Department) published the preliminary results of its administrative review of the antidumping duty order on oil country tubular goods from Mexico and intent not to revoke the order in part. The review covers exports of this merchandise to the United States by Tubos de Acero de Mexico S.A. (TAMSA) and Hylsa S.A. de C.V. (Hylsa). The review period is August 1, 1998 to July 31, 1999.

We invited interested parties to comment on the preliminary results. We received comments and rebuttal comments from petitioners and from both respondents. Based on our analysis of the comments received, we have made changes in the margin calculations for Hylsa. The final weighted-average dumping margins for TAMSA and Hylsa are listed below in the section entitled Final Results of Review.

EFFECTIVE DATE: March 21, 2001.

FOR FURTHER INFORMATION CONTACT: Phyllis Hall (TAMSA), Dena Aliadinov (Hylsa), or Steve Bezirganian, Enforcement Group III, Office 8, Import Administration, International Trade Administration, U.S. Department of Commerce, 14th Street and Constitution Avenue, NW., Room 7866, Washington, DC 20230; telephone (202) 482-1388, (202) 482-3362, or (202) 482-1131, respectively.

SUPPLEMENTARY INFORMATION:

Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR part 351 (1999).

Background

On September 12, 2000, the Department published in the Federal Register the preliminary results of the fourth administrative review of the antidumping duty order on oil country tubular goods (“OCTG”) from Mexico (see Oil Country Tubular Goods From Mexico: Preliminary Results of Administrative Review and Notice of Intent Not to Revoke in Part, 65 FR 54998 (September 12, 2000) (Preliminary Results).

Section 751(a)(3)(A) of the Act allows the Department to extend the deadline for the final determination to 180 days from the date of publication of the preliminary determination. On January 8, 2001, the Department published a notice of extension of the time limit for the final results in this case to March 12, 2001. See Oil Country Tubular Goods from Mexico: Extension of Time Limit for Final Results of Antidumping Duty Administrative Review, 66 FR 1309 (January 8, 2001).

The Department is conducting this review in accordance with section 751(a) of the Act.

Scope of Review

Imports covered by this review are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this order are currently classified in the Harmonized Tariff Schedule of the United States (HTSUS) under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of this proceeding is dispositive.

The Department has determined that couplings, and coupling stock, are not within the scope of the antidumping order on OCTG from Mexico. See Letter to Interested Parties; Final Affirmative Scope Decision, August 27, 1998.

Duty Absorption

As part of this review, we are considering, in accordance with section 751(a)(4) of the Act, whether TAMSA absorbed antidumping duties. See the Preliminary Results of this review. For these final results of review, we determine that there is no dumping margin on any of TAMSA's sales during the period of review and, therefore, find that antidumping duties have not been absorbed by TAMSA on its U.S. sales during this review period.

Analysis of Comments Received

All issues raised in the case and rebuttal briefs by parties to this administrative review are addressed in the Issues and Decision Memorandum (Decision Memorandum) from Joseph A. Spetrini, Deputy Assistant Secretary, Import Administration, to Bernard T. Carreau, fulfilling the duties of Assistant Secretary for Import Administration, dated March 9, 2001, which is hereby adopted by this notice. A list of the issues which parties have raised and to which we have responded, all of which are in the Decision Memorandum, is attached to this notice as an Appendix. Parties can find a complete discussion of all issues raised in this review and the corresponding recommendations in this public memorandum which is on file in the Central Records Unit, room B-099 of the main Department building. In addition, a complete version of the Decision Memorandum can be accessed directly on the Web at http://ia.ita.doc.gov. The paper copy and the electronic version of the Decision Memorandum are identical in content.

Changes Since the Preliminary Results

Based on our analysis of comments received, we have made certain changes in the margin calculations for Hylsa. No changes have been made in the margin calculations for TAMSA.

Final Results of Review

We determine that the following percentage weighted-average margins exist for the period August 1, 1998 through July 31, 1999:

Oil Country Tubular Goods
Producer/ manufacturer/ exporter | Weighted-average margin %
TAMSA | 0
Hylsa | 0.79

The Department shall determine, and the Customs Service shall assess, antidumping duties on all appropriate entries. The Department will issue appraisement instructions directly to the Customs Service. For assessment purposes, the Department has calculated importer-specific assessment rates by dividing the total antidumping duties calculated for the subject merchandise examined by the entered value of such merchandise. The Department will direct the Customs Service to assess antidumping duties on appropriate entries by applying the assessment rate to the entered value of the merchandise entered during the POR, except where the assessment rate is zero or de minimis (see 19 CFR 351.106(c)(2)).

Furthermore, the following deposit requirements will be effective upon publication of this notice of final results of review for all shipments of OCTG from Mexico entered, or withdrawn from warehouse, for consumption on or after the publication date, as provided for by section 751(a)(1) of the Act: (1) The cash deposit rate for the reviewed companies will be the rates for those firms as stated above; (2) for previously reviewed or investigated companies not listed above, the cash deposit rate will continue to be the company-specific rate published for the most recent period; (3) if the exporter is not a firm covered in this review, a prior review, or the original less than fair value (LTFV) investigation, but the manufacturer is, the cash deposit rate will be the rate established for the most recent period for the manufacturer of the merchandise; and (4) the cash deposit rate for all other manufacturers or exporters will continue to be 23.79 percent. This is the “all others” rate from the LTFV investigation. These deposit requirements, when imposed, shall remain in effect until publication of the final results of the next administrative review.

This notice serves as a final reminder to importers of their responsibility under 19 CFR 351.402(f) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305 of the Department's regulations. Timely written notification of return/destruction of APO materials or conversion to judicial protective order is hereby requested. Failure to comply with the regulations and the terms of an APO is a sanctionable violation.

This administrative review and this notice are in accordance with sections 751(a)(1) and 777(i)(1)of the Act.

Dated: March 12, 2001.
Timothy J. Hauser,
Acting Under Secretary for International Trade.

Appendix I—Issues in Decision Memorandum

Comments and Responses

TAMSA

1. Revocation

2. Export Price and Constructed Export Price Sales

Hylsa

1. Export Credit Insurance

2. Value Added Taxes—Raw Material

3. Packing Costs

A. Double-Counted

B. Reporting Period

4. Single Average Cost for All Products

5. General & Administrative Expenses and Exchanges Gains & Losses

6. Profit

7. Revocation

[FR Doc. 01-6913 Filed 3-20-01; 8:45 am]

BILLING CODE 3510-DS-P